DEPARTMENT OF COMMERCE

International Trade Administration

[A-821-816]

Inquiry Into the Status of the Russian Federation as a Non-Market Economy Country Under the U.S. Antidumping and Countervailing Duty Laws: Notice of Hearing

AGENCY: Import Administration, International Trade Administration, Department of Commerce.

ACTION: Notice of hearing.

EFFECTIVE DATE: March 15, 2002.

FOR FURTHER INFORMATION CONTACT: Becky Erkul or Jim Nunno, Office of Policy, Import Administration, International Trade Administration, U.S. Department of Commerce, 14th Street and Constitution Avenue, NW., Washington, DC 20230; telephone: (202) 482-1277 or (202) 482-0783.

SUMMARY: The Department of Commerce is holding a public hearing to solicit views on the issue of the status of the Russian Federation as a non-market economy country under the antidumping and countervailing duty laws. The hearing will be held at 9 a.m. on March 27, 2002, in Room 3407 at the Department of Commerce, 14th Street and Constitution Avenue, NW., Washington, DC 20230. Hearing presentations should be limited to no more than ten minutes to allow for possible questions from the Chair and the panel. Additional time for oral presentations may be granted as time and the number of participants permit. Parties wishing to testify orally at the hearing must provide written notification of their intention, and indicate the amount of time they will need to make their presentation, no later than 5 p.m., March 22, 2002, to Faryar Shirzad, Assistant Secretary for Import Administration; Subject: Public Hearings on Inquiry into the Status of the Russian Federation as a Non-Market Economy Country under the Antidumping and Countervailing Duty Laws; Room 1870, U.S. Department of Commerce, 14th Street and Constitution Avenue, NW., Washington, DC. The notification should include (1) the name of the person presenting the testimony, their address and telephone number; (2) the organization or company they are representing, if appropriate; and (3) if applicable, any request for an extension of the time limitation on the oral presentation. In addition, please send a copy of this notification via facsimile to Becky Erkul at (202) 482-2308.

Dated: March 11, 2002.
Faryar Shirzad,
Assistant Secretary for Import Administration.

[FR Doc. 02-6317 Filed 3-12-02; 3:56 pm]

BILLING CODE 3510-DS-P